DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than July 14, 2006.

ADDRESSES: Submit written comments on any or all of the following proposed activities by mail to either: Mr. Robert Brogan, Office of Safety, Planning and Evaluation Division, RRS-21, Federal Railroad Administration, 1120 Vermont Ave., NW., Mail Stop 25, Washington, DC 20590, or Mr. Victor Angelo, Office of Support Systems, RAD-43, Federal Railroad Administration, 1120 Vermont Ave., NW., Mail Stop 35, Washington, DC 20590. Commenters requesting FRA to acknowledge receipt of their respective comments must include a self-addressed stamped postcard stating, “Comments on OMB control number ____.” Alternatively, comments may be transmitted via facsimile to (202) 493-6230 or (202) 493-6170, or E-mail to Mr. Brogan at robert.brogan@dot.gov, or to Mr. Angelo at victor.angelo@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 25, Washington, DC 20590 (telephone: (202) 493-6292) or Victor Angelo, Office of Support Systems, RAD-43, Federal Railroad Administration, 1120 Vermont Ave., NW., Mail Stop 35, Washington, DC 20590 (telephone: (202) 493-6470). (These telephone numbers are not toll-free.)

SUPPLEMENTARY INFORMATION: The Paperwork Reduction Act of 1995 (PRA), Public Law No. 104-13, § 2, 109 Stat. 163 (1995) (codified as revised at 44 U.S.C. 3501-3520), and its implementing regulations, 5 CFR part 1320, require Federal agencies to provide 60 days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of the three currently approved information collection activities that FRA will submit for clearance by OMB as required under the PRA:

Title: State Safety Participation Regulations and Remedial Actions.

OMB Control Number: 2130-0509.

Abstract: The collection of information is set forth under 49 CFR part 212, and requires qualified state inspectors to provide various reports to FRA for monitoring and enforcement purposes concerning state investigative, inspection, and surveillance activities regarding railroad compliance with Federal railroad safety laws and regulations. Additionally, railroads are required to report to FRA actions taken to remedy certain alleged violations of law.

Form Number(s): FRA F 6180.33/61/67/96/96A/109/110/111/112.

Affected Public: Businesses.

Respondent Universe: States and Railroads.

Reporting Burden:

CFR section | Respondent universe | Total annual responses | Average time per response | Total annual burden hours | Total annual burden cost
Application For Participation | 15 States | 15 updates | 2.5 hours | 38 | $1,748
Training Funding Agreement | 30 States | 30 agreements | 1 hour | 30 | 1,380
Inspector Training Reimbursement | 30 States | 300 vouchers | 1 hour | 300 | 12,600
Annual Work Plan | 30 States | 30 reports | 15 hours | 450 | 20,700
Inspection Form (Form FRA F 6180.96) | 30 States | 18,000 forms | 15 minutes | 4,500 | 189,000
Violation Report—Motive, Power, and Equipment Regulations (Form FRA F 6180.109) | 19 States | 200 reports | 4 hours | 800 | 33,600
Violation Report—Operating Practices Regulations (Form FRA F 6180.67) | 13 States | 40 reports | 4 hours | 160 | 6,720
Violation Report—Hazardous Materials Regulations (Form FRA F 6180.110) | 14 States | 100 reports | 4 hours | 400 | 16,800
Violation Report—Hours of Service Law (F 6180.33) | 13 States | 21 reports | 4 hours | 84 | 3,528
Violation Report—Accident/Incident Reporting Rules (Form FRA F 6180.61) | 17 States | 10 reports | 4 hours | 40 | 1,680
Violation Report—Track Safety Regulations (Form FRA F 6180.111) | 17 States | 158 reports | 4 hours | 632 | 26,544
Violation Report—Signal and Train Control Regulations (Form FRA F 6180.112) | 17 States | 100 reports | 4 hours | 400 | 16,800
Remedial Actions Reports | 573 Railroads | 5,048 reports | 15 minutes | 1,262 | 80,768
Violation Report Challenge | 573 Railroads | 1,010 challenges | 1 hours | 1,010 | 64,640
Delayed Reports | 573 Railroads | 505 reports | 30 minutes | 253 | 16,192

Total Responses: 25,567.

Estimated Total Annual Burden: 10,359 hours.

Status: Extension of a currently approved collection.

Title: Certification of Glazing Materials.

OMB Control Number: 2130-0525.

Abstract: The collection of information is set forth under 49 CFR part 223, which requires the certification and permanent marking of glazing materials by the manufacturer. The manufacturer is also responsible for making available test verification data to railroads and FRA upon request.

Form Number(s): N/A.

Affected Public: Businesses.

Respondent Universe: 5 Manufacturers.

Total Responses: 25,211.

Estimated Total Annual Burden: 119 hours.

Status: Extension of a currently approved collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on May 10, 2006.
D.J. Stadlter,
Director, Office of Budget, Federal Railroad Administration.

[FR Doc. E6-7361 Filed 5-12-06; 8:45 am]

BILLING CODE 4910-06-P